DEPARTMENT OF ENERGY

Federal Energy Regulatory Commission

[Docket No. ER02-2126-000, et al.]

Consolidated Edison Company, et al.; Electric Rate and Corporate Filings

September 25, 2002.

The following filings have been made with the Commission. The filings are listed in ascending order within each docket classification.

1. Consolidated Edison Company

[Docket No. ER02-2126-003]

Take notice that on September 23, 2002, Consolidated Edison Company of New York, Inc., (Con Edison) tendered for filing an Amendment to its prior filings in these dockets of an unexecuted Interconection Agreement (Agreement) between Con Edison and PSEG Power in-City I, LLC (PSEG Power), Con Edison's Amendment was filed in response to the letter order issued on August 28, 2002 by the Director, OMTR/Tariffs and Rates—East.

Con Edison states that copies of the filing were served upon PSEG Power, the New York Independent System Operator, and the New York Public Service Commission.

Comment Date: October 15, 2002.

2. PJM Interconnection, L.L.C.

[Docket No. ER02-2519-002]

Take notice that on September 23, 2002, PJM Interconnection, L.L.C. (PJM), submitted for filing an amendment to its August 29, 2002 and September 11, 2002 filings in this docket. In its August 29, 2002 filing, PJM amended the Appendix of Attachment K of the PJM Open Access Transmission Tariff (PJM Tariff) and Schedule 1 of the Amended and Restated Operating Agreement of PJM Interconnection, L.L.C. (Operating Agreement) to establish a Spinning Reserve market for PJM and PJM West and new compensation rules. On September 11, 2002 PJM amended its August 29, 2002 filing to include conforming amendments to both the PJM Tariff and Operating Agreement consistent with the Spinning Reserve market and compensation rules. PJM hereby submits one further amendment in light of the implementation of the Spinning Reserve market and compensation rules.

PJM requests an effective date of December 1, 2002 for the amendments filed on August 29, 2002, September 11, 2002, and September 23, 2002. Copies of this filing were served upon all parties listed on the official service list in Docket No. ER02-2519-000, all PJM members, and each state electric utility regulatory commission in the PJM control area and PJM West region.

Comment Date: October 10, 2002.

3. New England Power Company

[Docket No. ER02-2568-000]

Take notice that on September 20, 2002, New England Power Company (NEP) submitted for filing Original Service Agreement No. 214 between NEP and Lake Road Generating Company, L.P. (Lake Road) under NEP's open access transmission tariff, New England Power Company, FERC Electric Tariff, Original Volume No. 9. The Service Agreement consists of a related facilities agreement between NEP and Lake Road concerning upgrades to transmission facilities operated by NEP in Rhode Island to accommodate the interconnection of Lake Road's new generating station to the transmission system of Connecticut Light and Power in Connecticut.

Comment Date: October 11, 2002.

4. NorthWestern Energy, L.L.C.

[Docket No. ER02-2569-000]

Take notice that on September 20, 2002, NorthWestern Energy, L.L.C. filed with the Federal Energy Regulatory Commission (Commission) a Change in Rate Filing and Request for Certain Waivers.

Comment Date: October 11, 2002.

5. Minnesota Power

[Docket No. ER02-2570-000]

Take notice that on September 20, 2002, Minnesota Power tendered for filing the complete wholesale rate schedule, designated as required by Commission Order No. 614, for the City of Biwabik, Minnesota (Biwabik). This filing included revised rates, which would allow Biwabik the option to purchase wholesale Renewable and/or High-Efficiency Energy from Minnesota Power, for resale to Biwabik's retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Buhl, Ely, Gilbert, Keewatin, Mountain Iron, Nashwauk, Pierz, Randall and Two Harbors; the Public Utilities Commission of Brainerd; the City of Grand Rapids—Public Utilities Commission; and the City of Proctor—Public Utilities Commission (all located in the State of Minnesota); and (b) Resale Service—Partial Requirements Municipalities Customers (Partial Requirements Customers): City of Hibbing—Public Utilities Commission and City of Virginia—Department of Public Utilities (both located in the State of Minnesota). Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 11, 2002.

6. Avista Corporation

[Docket No. ER02-2571-000]

Take notice that on September 20, 2002, Avista Corporation (Avista), tendered for filing with the Federal Energy Regulatory Commission pursuant to 18 CFR 35.12 Service Agreement No. 120, which is an Agreement for Firm and Non-Firm Point-to-Point Transmission Service Under Avista Corporation's Open Access Transmission Tariff—FERC Electric Tariff Volume No. 8 between Avista and Haleywest/Plummer Forest Products (Service Agreement).

Avista respectfully requests that the Commission accept the Service Agreement No. 120 for filing and grant all waivers necessary to allow the Service Agreement No. 120 to become effective September 9, 2002. Plummer is the sole customer affected by this Service Agreement and the waiver, if granted, will not affect any other rate or charge to any other customer.

Copies of the filing were served upon Haleywest/Plummer Forest Products, Inc., the sole party to the Service Agreement.

Comment Date: October 11, 2002

7. Minnesota Power

[Docket No. ER02-2572-000]

Take notice that on September 20, 2002, Minnesota Power tendered for filing the complete wholesale rate schedule, designated as required by Commission Order No. 614, for the City of Aitkin, Minnesota (Aitkin). This filing included revised rates, which would allow Aitkin the option purchase wholesale Renewable and/or High-Efficiency Energy from Minnesota Power, for resale to Aitkin's retail customers. Minnesota Power requests January 1, 2003 as the effective date for the revised rates.

In separate filings with the Commission, Minnesota Power also submitted complete, revised wholesale rate schedules, designated as required by Order No. 614, for the following categories of Minnesota Power wholesale customers: (a) resale Service—Full Requirements Municipalities and Rural Utilities Customers (Full Requirements Customers): Cities of Biwabik, Buhl, Ely, Gilbert, Keewatin, Mountain Iron, Nashwauk, Pierz, Randall and Two Harbors; the Public Utilities Commission of Brainerd; the City of Grand Rapids—Public Utilities Commission; the City of Proctor—Public Utilities Commission (all located in the State of Minnesota0; and b) Resale Service—Public Utilities Commission (all located in the State of Minnesota); and (b) Resale Service—Partial Requirements Municipalities Customers (Partial Requirements Customers): City of Hibbing—Public Utilities Commission and City of Virginia—Department of Public Utilities (both located in the State of Minnesota). Minnesota Power's separate filings for each of its Full Requirements Customers and Partial Requirements Customers also included revised rates that would allow those Customers the option to purchase wholesale Renewable and/or High-Efficiency Energy for resale to their retail customers. Minnesota Power requested and effective date of January 1, 2003 for those revised rates.

Comment Date: October 11, 2002.

8. PSEG Energy Resources & Trade LLC

[Docket No. ER02-2573-000]

Take notice that on September 20, 2002, PSEG Energy Resources & Trade LLC (PSEG) of Newark, New Jersey, tendered for filing a letter, together with certain attachments, requesting that the Commission amend the Western Systems Power Pool (WSPP) Agreement to include PSEG ER&T as a participant.

PSEG further requests waiver of the Commission's regulations such that the agreement can be made effective as of the filing date. Copies of the filing have been served upon Michael Small, Esquire, the Executive and Operating Committees of the WSPP and the New Jersey Board of Public Utilities.

Comment Date: October 11, 2002.

9. Minnesota Power

[Docket No. ER02-2574-000]

Take notice that on September 20, 2002, Minnesota Power tendered for filing the complete wholesale rate schedule, designated as required by Commission Order No. 614, for the City of Grand Rapids, Minnesota—Public Utilities Commission (Grand Rapids). This filing included revised rates, which would allow Grand Rapids the option to purchase wholesale Renewable and/or High-Efficiency Energy from Minnesota Power, for resale to Grand Rapids' retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Ely, Gilbert, Keewatin, Mountain Iron, Nashwauk, Pierz, Randall and Two Harbors; the Public Utilities Commission of Brainerd; and the City of Proctor—Public Utilities Commission (all located in the State of Minnesota); and (b) Resale Service—Partial Requirements Municipalities Customers (Partial Requirements Customers): City of Hibbing—Public Utilities Commission and City of Virginia—Department of Public Utilities (both located in the State of Minnesota). Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 11, 2002.

10. Minnesota Power

[Docket No. ER02-2575-000]

Take notice that on September 20, 2002, Minnesota Power tendered for filing the complete wholesale rate schedule, designated as required by Commission Order No. 614, for the City of Gilbert, Minnesota (Gilbert). This filing included revised rates, which would allow Gilbert the option to purchase wholesale Renewable and/or High-Efficiency Energy from Minnesota Power, for resale to Gilbert's retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Ely, Keewatin, Mountain Iron, Nashwauk, Pierz, Randall and Two Harbors; the Public Utilities Commission of Brainerd; the City of Grand Rapids—Public Utilities Commission; and the City of Proctor—Public Utilities Commission (all located in the State of Minnesota); and (b) Resale Service—Partial Requirements Municipalities Customers (Partial Requirements Customers): City of Hibbing—Public Utilities Commission and City of Virginia—Department of Public Utilities (both located in the State of Minnesota). Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 11, 2002.

11. California Independent System Operator Corporation

[Docket No. ER02-2576-000]

Take notice that on September 20, 2002, the California Independent System Operator Corporation (ISO) submitted for filing an update to the Comprehensive Market Design (MD02) proposal contained in Amendment No. 44 to the ISO Tariff (Update) and Request for Expedited Consideration of the Update. For the reasons described below, the ISO respectfully submits that good cause exists for the Commission to undertake expedited action on and grant approval of the proposed clarifications and modifications set forth herein.

This Update would modify the ISO Tariff to: (1) Postpone the effective date for the implementation of Real-Time Economic Dispatch and Uninstructed Deviation Penalties; (2) change the deadline for submitting Supplemental Energy bids; (3) exempt bids $0/MWh or less from the calculation to determine the reference price for resources; (4) extend the provisions of ISO Tariff Amendment No. 43 to pay pre-dispatched System Resources outside the ISO Control Area the instructed Imbalance Energy price in all intervals; (5) clarify that Automatic Mitigation Procedure reference prices will be calculated daily; and (6) limit the liability of the independent entity calculating such reference prices.

The ISO has served this filing upon the Public Utilities Commission of the State of California, the California Energy Commission, the California Electricity Oversight Board, and all parties with effective Scheduling Coordinator Service Agreements under the ISO Tariff. In addition, the ISO has posted a copy of the filing on its Home Page.

Comment Date: October 11, 2002.

12. Minnesota Power

[Docket No. ER02-2578-000]

Take notice that on September 23, 2002, Minnesota Power tendered for filing the complete wholesale rate schedule, designated as required by Commission Order No. 614, for the Public Utilities Commission of Brainerd, Minnesota (Brainerd). This filing included revised rates, which would allow Brainerd the option to purchase wholesale Renewable and/or High-Efficiency Energy from Minnesota Power, for resale to Brainerd's retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Ely, Gilbert, Keewatin, Mountain Iron, Nashwauk, Pierz, Randall and Two Harbors; the City of Grand Rapids—Public Utilities Commission; and the City of Proctor—Public Utilities Commission (all located in the State of Minnesota); and (b) Resale Service—Partial Requirements Municipalities Customers (Partial Requirements Customers): City of Hibbing—Public Utilities Commission and City of Virginia—Department of Public Utilities (both located in the State of Minnesota).

Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 15, 2002.

13. Minnesota Power

[Docket No. ER02-2579-000]

Take notice that on September 23, 2002, Minnesota Power tendered for filing the complete wholesale rate schedule, designated as required by Commission Order No. 614, for the City of Two Harbors, Minnesota (Two Harbors). This filing included revised rates, which would allow Two Harbors the option to purchase wholesale Renewable and/or High-Efficiency Energy from Minnesota Power, for resale to the retail customers of Two Harbors. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Ely, Gilbert, Keewatin, Mountain Iron, Nashwauk, Pierz, and Randall; the Public Utilities Commission of Brainerd; the City of Grand Rapids—Public Utilities Commission; and the City of Proctor—Public Utilities Commission (all located in the State of Minnesota); and (b) Resale Service—Partial Requirements Municipalities Customers (Partial Requirements Customers): City of Hibbing—Public Utilities Commission and City of Virginia—Department of Public Utilities (both located in the State of Minnesota). Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 15, 2002.

14. Minnesota Power

[Docket No. ER02-2580-000]

Take notice that on September 23, 2002, Minnesota Power tendered for filing the complete wholesale rate schedule, designated as required by Commission Order No. 614, for the City of Nashwauk, Minnesota (Nashwauk). This filing included revised rates, which would allow Nashwauk the option to purchase wholesale Renewable and/or High-Efficiency Energy from Minnesota Power, for resale to Nashwauk's retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Ely, Gilbert, Keewatin, Mountain Iron, Pierz, Randall and Two Harbors; the Public Utilities Commission of Brainerd; the City of Grand Rapids—Public Utilities Commission; and the City of Proctor—Public Utilities Commission (all located in the State of Minnesota); and (b) Resale Service—Partial Requirements Municipalities Customers (Partial Requirements Customers): City of Hibbing—Public Utilities Commission and City of Virginia—Department of Public Utilities (both located in the State of Minnesota). Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 15, 2002.

15. Minnesota Power

[Docket No. ER02-2581-000]

Take notice that on September 23, 2002, Minnesota Power tendered for filing the complete wholesale rate schedule, designated as required by Commission Order No. 614, for the City of Hibbing, Minnesota—Public Utilities Commission (Hibbing). This filing included revised rates, which would allow Hibbing the option to purchase wholesale Renewable and/or High-Efficiency Energy from Minnesota Power, for resale to Hibbing's retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Ely, Gilbert, Keewatin, Mountain Iron, Nashwauk, Pierz, Randall and Two Harbors; the Public Utilities Commission of Brainerd; the City of Grand Rapids—Public Utilities Commission; and the City of Proctor—Public Utilities Commission (all located in the State of Minnesota); and (b) Resale Service—Partial Requirements Municipalities Customers (Partial Requirements Customers): City of Virginia—Department of Public Utilities (located in the State of Minnesota). Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 15, 2002.

16. Minnesota Power

[Docket No. ER02-2582-000]

Take notice that on September 23, 2002, Minnesota Power tendered for filing the complete wholesale rate schedule, designated as required by Commission Order No. 614, for the City of Ely, Minnesota (Ely). This filing included revised rates, which would allow Ely the option to purchase wholesale Renewable and/or High-Efficiency Energy from Minnesota Power, for resale to Ely's retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Gilbert, Keewatin, Mountain Iron, Nashwauk, Pierz, Randall and Two Harbors; the Public Utilities Commission of Brainerd; the City of Grand Rapids—Public Utilities Commission; and the City of Proctor—Public Utilities Commission (all located in the State of Minnesota); and (b) Resale Service—Partial Requirements Municipalities Customers (Partial Requirements Customers): City of Hibbing—Public Utilities Commission and City of Virginia—Department of Public Utilities (both located in the State of Minnesota).

Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 15, 2002.

17. Minnesota Power

[Docket No. ER02-2583-000]

Take notice that on September 23, 2002, Minnesota Power tendered for filing the complete wholesale rate schedule, designated as required by Commission Order No. 614, for the City of Proctor, Minnesota—Public Utilities Commission (Proctor). This filing included revised rates, which would allow Proctor the option to purchase wholesale Renewable and/or High-Efficiency Energy from Minnesota Power, for resale to Proctor's retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Ely, Gilbert, Keewatin, Mountain Iron, Nashwauk, Pierz, Randall and Two Harbors; the Public Utilities Commission of Brainerd; and the City of Grand Rapids—Public Utilities Commission (all located in the State of Minnesota); and (b) Resale Service—Partial Requirements Municipalities Customers (Partial Requirements Customers): City of Hibbing—Public Utilities Commission and City of Virginia—Department of Public Utilities (both located in the State of Minnesota). Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 15, 2002.

18. Minnesota Power

[Docket No. ER02-2584-000]

Take notice that on September 23, 2002, Minnesota Power tendered for filing the complete wholesale rate schedule, designated as required by Commission Order No. 614, for Superior Water Light & Power Company, a wholly owned affiliate of Minnesota Power serving northwestern Wisconsin. Except for designations required by Order No. 614, the wholesale rate schedule terms and conditions remain unchanged from those previously on file with the Commission.

Comment Date: October 15, 2002.

19. Minnesota Power

[Docket No. ER02-2585-000]

Take notice that on September 23, 2002, Minnesota Power tendered for filing the complete wholesale rate schedule, designated as required by Commission Order No. 614, for the City of Mountain Iron, Minnesota (Mountain Iron). This filing included revised rates, which would allow Mountain Iron the option to purchase wholesale Renewable and/or High-Efficiency Energy from Minnesota Power, for resale to Mountain Iron's retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Ely, Gilbert, Keewatin, Nashwauk, Pierz, Randall and Two Harbors; the Public Utilities Commission of Brainerd; the City of Grand Rapids—Public Utilities Commission; and the City of Proctor—Public Utilities Commission (all located in the State of Minnesota); and (b) Resale Service—Partial Requirements Municipalities Customers (Partial Requirements Customers): City of Hibbing—Public Utilities Commission and City of Virginia—Department of Public Utilities (both located in the State of Minnesota). Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 15, 2002.

20. Minnesota Power

[Docket No. ER02-2586-000]

Take notice that on September 23, 2002, Minnesota Power tendered for filing the complete wholesale rate schedule, designated as required by Commission Order No. 614, for the City of Buhl, Minnesota (Buhl). This filing included revised rates, which would allow Buhl the option to purchase wholesale Renewable and/or High-Efficiency Energy from Minnesota Power, for resale to Buhl's retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Ely, Gilbert, Keewatin, Mountain Iron, Nashwauk, Pierz, Randall and Two Harbors; the Public Utilities Commission of Brainerd; the City of Grand Rapids—Public Utilities Commission; and the City of Proctor—Public Utilities Commission (all located in the State of Minnesota); and (b) Resale Service—Partial Requirements Municipalities Customers (Partial Requirements Customers): City of Hibbing—Public Utilities Commission and City of Virginia—Department of Public Utilities (both located in the State of Minnesota). Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 15, 2002.

21. Minnesota Power

[Docket No. ER02-2587-000]

Take notice that on September 23, 2002, Minnesota Power tendered for filing the complete wholesale rate schedule, designated as required by Commission Order No. 614, for Dahlberg Light & Power Company. Except for designations required by Order No. 614, the wholesale rate schedule terms and conditions remain unchanged from those previously on file with the Commission.

Comment Date: October 15, 2002.

22. Minnesota Power

[Docket No. ER02-2588-000]

Take notice that on September 23, 2002, Minnesota Power tendered for filing the complete wholesale rate schedule, designated as required by Commission Order No. 614, for the City of Keewatin, Minnesota (Keewatin). This filing included revised rates, which would allow Keewatin the option to purchase wholesale Renewable and/or High-Efficiency Energy from Minnesota Power, for resale to Keewatin's retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Ely, Gilbert, Mountain Iron, Nashwauk, Pierz, Randall and Two Harbors; the Public Utilities Commission of Brainerd; the City of Grand Rapids—Public Utilities Commission; and the City of Proctor—Public Utilities Commission (all located in the State of Minnesota); and (b) Resale Service—Partial Requirements Municipalities Customers (Partial Requirements Customers): City of Hibbing—Public Utilities Commission and City of Virginia—Department of Public Utilities (both located in the State of Minnesota). Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 15, 2002.

23. Minnesota Power

[Docket No. ER02-2589-000]

Take notice that on September 23, 2002, Minnesota Power tendered for filing the complete wholesale rate schedule, designated as required by Commission Order No. 614, for the City of Virginia, Minnesota—Department of Public Utilities (Virginia, Minnesota). This filing included revised rates, which would allow Virginia, Minnesota the option to purchase wholesale Renewable and/or High-Efficiency Energy from Minnesota Power, for resale to Virginia, Minnesota's retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Ely, Gilbert, Keewatin, Mountain Iron, Nashwauk, Pierz, Randall and Two Harbors; the Public Utilities Commission of Brainerd; the City of Grand Rapids—Public Utilities Commission; and the City of Proctor—Public Utilities Commission (all located in the State of Minnesota); and (b) Resale Service—Partial Requirements Municipalities Customers (Partial Requirements Customers): City of Hibbing—Public Utilities Commission (located in the State of Minnesota). Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 15, 2002.

24. Minnesota Power

[Docket No. ER02-2590-000]

Take notice that on September 23, 2002, Minnesota Power tendered for filing the complete wholesale rate schedule, designated as required by Commission Order No. 614, for the City of Pierz, Minnesota (Pierz). This filing included revised rates, which would allow Pierz the option to purchase wholesale Renewable and/or High-Efficiency Energy from Minnesota Power, for resale to the retail customers of Pierz. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Ely, Gilbert, Keewatin, Mountain Iron, Nashwauk, Randall and Two Harbors; the Public Utilities Commission of Brainerd; the City of Grand Rapids—Public Utilities Commission; and the City of Proctor—Public Utilities Commission (all located in the State of Minnesota); and (b) Resale Service—Partial Requirements Municipalities Customers (Partial Requirements Customers): City of Hibbing—Public Utilities Commission and City of Virginia—Department of Public Utilities (both located in the State of Minnesota).

Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 15, 2002.

25. Minnesota Power

[Docket No. ER02-2591-000]

Take notice that on September 23, 2002, Minnesota Power tendered for filing the complete wholesale rate schedule, designated as required by Commission Order No. 614, for the City of Randall, Minnesota (Randall). This filing included revised rates, which would allow Randall the option to purchase wholesale Renewable and/or High-Efficiency Energy from Minnesota Power, for resale to Randall's retail customers. Minnesota Power requests January 1, 2003 as the effective date for these revised rates.

In separate filings with the Commission, Minnesota Power also submitted complete, revised wholesale rate schedules, designated as required by Order No. 614, for the following categories of Minnesota Power wholesale customers: (a) Resale Service—Full Requirements Municipalities and Rural Utilities Customers (Full Requirements Customers): Cities of Aitkin, Biwabik, Buhl, Ely, Gilbert, Keewatin, Mountain Iron, Nashwauk, Pierz, and Two Harbors; the Public Utilities Commission of Brainerd; the City of Grand Rapids—Public Utilities Commission; and the City of Proctor—Public Utilities Commission (all located in the State of Minnesota); and (b) Resale Service—Partial Requirements Municipalities Customers (Partial Requirements Customers): City of Hibbing—Public Utilities Commission and City of Virginia—Department of Public Utilities (both located in the State of Minnesota). Minnesota Power's separate filings for each of its Full Requirements Customers and Partial Requirements Customers also included revised rates that would allow those Customers the option to purchase wholesale Renewable and/or High-Efficiency Energy for resale to their retail customers. Minnesota Power requested an effective date of January 1, 2003 for those revised rates.

Comment Date: October 15, 2002.

26. Southern California Edison Company

[Docket No. ER02-2592-000]

Take notice that on September 23, 2002, Southern California Edison Company (SCE) tendered for filing under SCE's Transmission Owner Tariff a System Facilities Agreement (Agreement) between SCE and Blythe Energy LLC (Blythe).

The Agreement specifies the terms and conditions pursuant to which SCE will design, engineer, construct and install the system facilities for Blythe to interconnect a 520 MW combined cycle power plant to the Western Area Power Administration (WAPA) transmission system at WAPA's Blythe Substation. SCE and WAPA's transmission systems are interconnected at WAPA's Blythe Substation.

SCE respectfully request the Agreement to become effective on September 24, 2002. Copies of this filing were served upon the Public Utilities Commission of the State of California and Blythe.

Comment Date: October 15, 2002.

27. Delmarva Power & Light Company

[Docket No. ER02-2593-000]

Take notice that on September 23, 2002, Delmarva Power & Light Company (Delmarva) tendered for filing a revised and executed Interconnection Agreement (Revised Interconnection Agreement) between Delmarva and the Delaware Municipal Electric Corporation (DEMEC). The Revised Interconnection Agreement continues to provide for the interconnection of DEMEC's generating units with the Delmarva transmission system and adds new tax provisions that were agreed to by the Parties.

Delmarva respectfully requests that the Commission allow the Interconnection Agreement to become effective on September 24, 2002, the day after filing. Copies of the filing were served upon the Delaware Public Service Commission, the Maryland Public Service Commission and the Virginia State Corporation Commission.

Comment Date: October 15, 2002.

Standard Paragraph

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-25398 Filed 10-4-02; 8:45 am]

BILLING CODE 6717-01-P